DEPARTMENT OF HEALTH AND HUMAN SERVICES

Centers for Disease Control and Prevention

[60Day-25-0978; Docket No. CDC-2025-0057]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled Emerging Infections Program (EIP). The EIP is a population-based surveillance program that collects data via active, laboratory case findings and is used for detecting, identifying, and monitoring emerging pathogens.

DATES: CDC must receive written comments on or before September 12, 2025.

ADDRESSES: You may submit comments, identified by Docket No. CDC-2025-0057 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road, NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Emerging Infections Program (OMB Control No. 0920-0978, Exp. 9/30/2027)—Revision—National Center for Emerging and Zoonotic Infectious Diseases (NCEZID), Centers for Disease Control and Prevention (CDC).

Background and Brief Description

The Emerging Infections Programs (EIPs) are population-based centers of excellence established through a network of state health departments collaborating with academic institutions; local health departments; public health and clinical laboratories; infection control professionals; and healthcare providers. EIPs assist in local, state, and national efforts to prevent, control, and monitor the public health impact of infectious diseases.

Activities of the EIPs fall into the following general categories: (1) active surveillance; (2) applied public health epidemiologic and laboratory activities; (3) implementation and evaluation of pilot prevention/intervention projects; and (4) flexible response to public health emergencies. Activities of the EIPs are designed to: (1) address issues that the EIP network is particularly suited to investigate; (2) maintain sufficient flexibility for emergency response and new problems as they arise; (3) develop and evaluate public health interventions to inform public health policy and treatment guidelines; (4) incorporate training as a key function; and (5) prioritize projects that lead directly to the prevention of disease.

A Revision is being submitted to make existing collection instruments clearer, consolidate forms and to add new forms. These forms will allow the EIP to better detect, identify, track changes in laboratory testing methodology, gather information about laboratory utilization in the EIP catchment area to ensure that all cases are being captured, and survey EIP staff to evaluate program quality.

CDC requests OMB approval for an estimated 40,731 burden hours. There is no cost to respondents other than their time to participate.

Estimated Annualized Burden Hours
Type of respondent | Form No. | Form name | Number of respondents | Number of responses per respondent | Avg. burden per response (in hours) | Total burden (in hours)
State Health Department | ABC.100.1 ABC.100.2 | ABCs Case Report Form ABCs Invasive Pneumococcal Disease in Children and Adults Case Report Form | 10 10 | 984 127 | 20/60 10/60 | 3278 212
| ABC.100.5 | ABCs Neonatal Infection Expanded Tracking Form | 10 | 37 | 20/60 | 123
| FN.200.1 | FoodNet Campylobacter | 10 | 550 | 21/60 | 1925
| FN.200.2 | FoodNet Cyclospora | 10 | 42 | 10/60 | 70
| FN.200.3 | FoodNet Listeria monocytogenes | 10 | 16 | 20/60 | 53
| FN.200.4 | FoodNet Salmonella | 10 | 855 | 21/60 | 2,993
| FN.200.5 | FoodNet Shiga toxin producing E. coli | 10 | 290 | 20/60 | 967
| FN.200.6 | FoodNet Shigella | 10 | 234 | 10/60 | 390
| FN.200.7 | FoodNet Vibrio | 10 | 46 | 10/60 | 77
| FN.200.8 | FoodNet Yersinia | 10 | 55 | 10/60 | 92
| FN.200.9 | FoodNet Hemolytic Uremic Syndrome | 10 | 10 | 1 | 100
| FN.200.10 | FoodNet Clinical Laboratory Practices and Testing Volume | 10 | 70 | 10/60 | 117
| FSN.300.1 | FluSurv-Net Influenza Hospitalization Surveillance Network Case Report Form | 15 | 576 | 25/60 | 3,600
| FSN.300.2 | FluSurv-Net Influenza Hospitalization Surveillance Project Vaccination Phone Script and Consent Form (English/Spanish) | 13 | 16 | 10/60 | 34
| FSN.300.3 | FluSurv-Net Influenza Hospitalization Surveillance Project Provider Vaccination History Fax Form (Children/Adults) and notification letter | 13 | 126 | 5/60 | 136
| FSN.300.4 | FluSurv-NET Laboratory Survey | 15 | 16 | 10/60 | 40
| HAIC.400.1 | HAIC-Multi-site Gram-Negative Surveillance Initiative (MuGSI) Case Report Form (CRF) | 11 | 1,581 | 29/60 | 8406
| HAIC.400.2 | HAIC MuGSI CA CP-CRE Health interview | 10 | 10 | 30/60 | 50
| HAIC.400.3 | HAIC MuGSI Supplemental Surveillance Officer Survey | 11 | 1 | 20/60 | 4
| HAIC.400.4 | HAIC-Invasive Staphylococcus aureus Infection Case Report Form | 10 | 788 | 29/60 | 3,809
| HAIC.400.5 | HAIC-Invasive Staphylococcus aureus Laboratory Survey | 10 | 11 | 9/60 | 17
| HAIC.400.6 | HAIC-Invasive Staphylococcus aureus Supplemental Surveillance Officers Survey | 10 | 1 | 11/60 | 2
| HAIC.400.7 | HAIC-CDI Case Report and Treatment Form | 10 | 1,650 | 38/60 | 10,450
| HAIC.400.8 | HAIC-Annual Survey of Laboratory Testing Practices for C. difficile Infections | 10 | 16 | 17/60 | 45
| HAIC.400.9 | HAIC-CDI Annual Surveillance Officers Survey | 10 | 1 | 15/60 | 3
| HAIC.400.10 | HAIC-Emerging Infections Program C. difficile Surveillance Nursing Home Telephone Survey (LTCF) | 10 | 45 | 5/60 | 38
| HAIC.400.11 | HAIC Candidemia Case Report Form | 10 | 170 | 40/60 | 1,133
| HAIC.400.12 | HAIC-Laboratory Testing Practices for Candidemia Questionnaire | 10 | 20 | 14/60 | 47
| HAIC.400.13 | HAIC Death Ascertainment Project | 10 | 8 | 24 | 1,920
| HAIC.400.14 | HAIC MuGSI KPC and NDM treatment collection form | 10 | 60 | 60/60 | 600
Total |  |  |  | 40,731

Jeffrey M. Zirger,
Lead, Information Collection Review Office, Office of Public Health Ethics and Regulations, Office of Science, Centers for Disease Control and Prevention.

[FR Doc. 2025-13102 Filed 7-11-25; 8:45 am]

BILLING CODE 4163-18-P